DEPARTMENT OF LABOR

Office of the Secretary

Submission for OMB Review: Comment Request

July 15, 2004.

The Department of Labor (DOL) has submitted the following public information collection requests (ICRs) to the Office of Management and Budget (OMB) for review and approval in accordance with the Paperwork Reduction Act of 1995 (Pub. L. 104-13, 44 U.S.C. chapter 35). A copy of each ICR, with applicable supporting documentation, may be obtained by contacting the Department of Labor (DOL). To obtain documentation, contact Darrin King on 202-693-4129 (this is not a toll-free number) or email: king.darrin@dol.gov.

Comments should be sent to Office of Information and Regulatory Affairs, Attn: OMB Desk Officer for the Employment Standards Administration (ESA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension of currently approved collection.

Title: Request for State or Federal Workers' Compensation Information.

OMB Number: 1215-0060.

Frequency: On occasion.

Type of Response: Reporting.

Affected Public: State, Local, or Tribal Government and Federal Government.

Number of Respondents: 1,600.

Number of Annual Responses: 1,600.

Estimated Time Per Response: 15 minutes.

Total Burden Hours: 400.

Total Annualized capital/startup costs: $0.

Total Annual Costs (operating/maintaining systems or purchasing services): $640.

Description: The Federal Mine Safety and Health Act of 1977, as amended (30 U.S.C. 901) and 20 CFR 725.535, directs that DOL Black Lung benefit payments to a beneficiary for any month be reduced by any other payments of State or Federal benefits for workers' compensation due to pneumoconiosis. The information collected by the Form CM-905 allows DOL to determine the amounts of black lung benefits paid to beneficiaries. Black Lung amounts are reduced dollar for dollar, for other black lung related workers' compensation awards the beneficiary may be receiving from State or Federal programs.

Agency: Employment Standards Administration.

Type of Review: Extension of currently approved collection.

Title: Labor Standards for Federal Service Contracts—Regulations 29 CFR, part 4.

OMB Number: 1215-0150.

Frequency: On occasion.

Type of Response: Reporting and recordkeeping.

Affected Public: Business or other for-profit and Federal Government.

Number of Respondents: 83,854.

Information collection requirement | Annual responses | Average response time (hours) | Annual burden hours
Vacation Benefit Seniority List | 82,149 | 1.00 | 82,149
Conformance Record | 200 | 0.50 | 100
Collective Bargaining Agreement | 1,505 | 0.08 | 125
Total: | 83,854 | /////////// | 82,374

Total Annualized capital/startup costs: $0.

Total Annual Costs (operating/maintaining systems or purchasing services): $0.

Description: The Service Contract Act (SCA) and Regulation 29 CFR part 4 impose certain recordkeeping and incidental reporting requirements applicable to employers with employees performing on service contracts within the Federal government. The basic payroll recordkeeping requirements contained in this regulation, Sec. 4.6(g)(1)(i) through (iv), have been previously approved under OMB-1215-0017, which constitutes the basic recordkeeping regulations for all laws administered by the Wage and Hour Division. This information collection contains three requirements not cleared under the above information collection. They are: A vacation benefit seniority list, which is used by the contractor to determine vacation fringe benefit entitlements earned and accrued by service contract employees who were employed by predecessor contractors; a conformance record report, which is used by Wage and Hour to determine the appropriateness of the conformance and compliance with the SCA and its regulations; and a collective bargaining agreement, submitted by the contracting agency to Wage and Hour to be used in the issuance of wage determinations for successor contracts subject to section 2(a) and 4(c) of the SCA.

Darrin A. King,
Acting Departmental Clearance Officer.

[FR Doc. 04-16540 Filed 7-20-04; 8:45 am]

BILLING CODE 4510-27-P